DEPARTMENT OF HOUSING AND URBAN DEVELOPMENT

[Docket No. FR-4557-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1998 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) Its intention to declare the property excess to the agency's needs, or (3) A statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review and should be the property address (including zip code), the date of publication in the Federal Register, the landholding agency, and the property number.

For more information regarding particular properties identified in this Notice (i.e., acreage, floor plan, existing sanitary facilities, exact street address), providers should contact the appropriate landholding agencies at the following addresses: Air Force: Ms. Barbara Jenkins, Air Force Estate Agency, (Area-MI), Bolling Air Force Base, 112 Luke Avenue, Suite 104, Building 5683, Washington, DC 20332-8020; (202) 767-4184; Energy: Mr. Tom Knox, Department of Energy, Office of Contract and Resource Management, MA-53, Washington, DC 20585; (202) 586-8715; GSA: Mr. Brian K. Polly, Assistant Commissioner, General Services Administration, Office of Property Disposal, 18th and F Streets, NW, Washington, DC 20405; (202) 501-0052; Navy: Mr. Charles C. Cocks, Department of the Navy, Director, Real Estate Policy Division, Naval Facilities Engineering Command, Washington Navy Yard, 1322 Patterson Ave., SE, Suite 1000, Washington, DC 20374-5065; (202) 685-9200; (These are not toll-free numbers).

Dated: March 9, 2000.
Fred Karnas, Jr.,
Deputy Assistant Secretary for Special Needs Assistance Programs.

Title V, Federal Surplus Property Program Federal Register Report for 3/17/00

Suitable/Available Properties

LAND (by State)

Mississippi

Proposed Site

Army Reserve Center

Waynesboro Co: Wayne MS 39367-

Landholding Agency: GSA

Property Number: 54200010005

Status: Excess

Comment: 7.60 acres, most recent use—pine plantation, periodic flooding, possible wetlands on 30-40% of property

GSA Number: 4-D-MS-0555

Ohio

Communications Site

Trebein Road

Beavercreek Co: Greene OH 00000-

Landholding Agency: Air Force

Property Number: 18200010008

Status: Excess

Comment: 92 acres

Communications Site

Central Ohio, Lot #1

Randor Co: Delaware OH 00000-

Landholding Agency: Air Force

Property Number 18200010009

Status: Excess

Comment: 11.73 acres

Unsuitable Properties

BUILDINGS (by State)

California

Bldg. 154

Naval Air Station

North Island Co: CA 92132-

Landholding Agency: Navy

Property Number: 77200010037

Status: Excess

Reason: Extensive deterioration

Connecticut

Bldg. 480

Naval Submarine Base

Groton Co: New London CT 06349-

Landholding Agency: Navy

Property Number: 77200010075

Status: Unutilized

Reason: Secured Area

­Florida

Bldg. 44

Naval Air Station

Pensacola Co: Escambia FL 32508-

Landholding Agency: Navy

Property Number: 77200010038

Status: Unutilized

Reason: Secured Area

Bldg. 58

Naval Air Station

Pensacola Co: Escambia FL 32508-

Landholding Agency: Navy

Property Number: 77200010039

Status: Unutilized

Reason: Secured Area

Bldg. 365

Naval Air Station

Pensacola Co: Escambia FL 32508-

Landholding Agency: Navy

Property Number: 77200010040

Status: Unutilized

Reason: Secured Area

Bldg. 455

Naval Air Station

Pensacola Co: Escambia FL 32508-

Landholding Agency: Navy

Property Number: 77200010041

Status: Unutilized

Reason: Secured Area

Bldg. 467

Naval Air Station

Pensacola Co: Escambia FL 32508-

Landholding Agency: Navy

Property Number: 77200010042

Status: Unutilized

Reason: Secured Area

Bldg. 475

Naval Air Station

Pensacola Co: Escambia FL 32508-

Landholding Agency: Navy

Property Number: 77200010043

Status: Unutilized

Reason: Secured Area

Bldg. 605A

Naval Air Station

Pensacola Co: Escambia FL 43508-

Landholding Agency: Navy

Property Number: 77200010044

Status: Unutilized

Reason: Secured Area

Bldg. 689

Naval Air Station

Pensacola Co: Escambia FL 32508-

Landholding Agency: Navy

Property Number: 77200010045

Status: Unutilized

Reason: Secured Area

Bldg. 802A

Naval Air Station

Pensacola Co: Escambia FL 32508-

Landholding Agency: Navy

Property Number: 77200010046

Status: Unutilized

Reason: Secured Area

Bldg. 835

Naval Air Station

Pensacola Co: Escambia FL 32508-

Landholding Agency: Navy

Property Number: 77200010047

Status: Unutilized

Reason: Secured Area

Bldg. 859B

Naval Air Station

Pensacola Co: Escambia FL 32508-

Landholding Agency: Navy

Property Number: 77200010048

Status: Unutilized

Reason: Secured Area

Bldg. 859C

Naval Air Station

Pensacola Co: Escambia FL 32508-

Landholding Agency: Navy

Property Number: 77200010049

Status: Unutilized

Reason: Secured Area

Bldg. 869

Naval Air Station

Pensacola Co: Escambia FL 32508-

Landholding Agency: Navy

Property Number: 77200010050

Status: Unutilized

Reason: Secured Area

Bldg. 1713

Naval Air Station

Pensacola Co: Escambia FL 32508-

Landholding Agency: Navy

Property Number: 77200010051

Status: Unutilized

Reason: Secured Area

Bldg. 2437

Naval Air Station

Pensacola Co: Escambia FL 32508-

Landholding Agency: Navy

Property Number: 77200010052

Status: Unutilized

Reason: Secured Area

Bldg. 2462

Naval Air Station

Pensacola Co: Escambia FL 32508-

Landholding Agency: Navy

Property Number: 77200010053

Status: Unutilized

Reason: Secured Area

Bldg. 3446

Naval Air Station

Pensacola Co: Escambia FL 32508-

Landholding Agency: Navy

Property Number: 77200010054

Status: Unutilized

Reason: Secured Area

Bldg. 3478

Naval Air Station

Pensacola Co: Escambia FL 32508-

Landholding Agency: Navy

Property Number: 77200010055

Status: Unutilized

Reason: Secured Area

Bldg. 3878

Naval Air Station

Pensacola Co: Escambia FL 32508-

Landholding Agency: Navy

Property Number: 77200010056

Status: Unutilized

Reason: Secured Area

Georgia

Stored Products Insects

R&D Lab

3401 Edwin Street

Savannah Co: Chatham GA 31403-

Landholding Agency: GSA

Property Number: 54200010003

Status: Excess

Reason: Floodway

GSA Number: 4-A-GA-861

Indiana

Former Army Reserve Ctr

East Hupp Road

LaPorte Co: IN 46345-0358

Landholding Agency: GSA

Property Number: 54200010004

Status: Excess

Reasons: Within 2000 ft. of flammable or explosive material. Within airport runway clear zone. Extensive deterioration

GSA Number: 1-D-IN-430F

Bldg. 3

Naval Surface Warfare

Naval Investigtion Ofc.

Crane Co: Lawrence IN 47522-

Landholding Agency: Navy

Property Number: 77200010057

Status: Unutilized

Reasons: Within 2000 ft. of flammable or explosive material. Secured Area

3 Bldgs.

Naval Surface Warfare

157, 166, 171

Crane Co: Lawrence IN 47522-

Landholding Agency: Navy

Property Number: 77200010058

Status: Unutilized

Reasons: Within 2000 ft. of flammable or explosive material. Secured Area

Bldgs.

Naval Surface Warfare

#22, 2792, 2794

Crane Co: Lawrence IN 47522-

Landholding Agency: Navy

Property Number: 77200010059

Status: Unutilized

Reasons: Within 2000 ft. of flammable or explosive material. Secured Area

3 Bldgs.

Naval Surface Warfare

#158, 167, 172

Crane Co: Lawrence IN 47522-

Landholding Agency: Navy

Property Number: 77200010060

Status: Unutilized

Reasons: Within 2000 ft. of flammable or explosive material. Secured Area

Bldgs. 162, 163

Naval Surface Warfare

Crane Co: Lawrence IN 47522-

Landholding Agency: Navy

Property Number: 77200010061

Status: Unutilized

Reasons: Within 2000 ft. of flammable or explosive material. Secured Area

Bldgs. 169D, 169E

Naval Surface Warfare

Crane Co: Lawrence IN 47522-

Landholding Agency: Navy

Property Number: 77200010062

Status: Unutilized

Reasons: Within 2000 ft. of flammable or explosive material. Secured Area

4 Bldgs.

Naval Surface Warfare

#173, 2171, 2172, 2179

Crane Co: Lawrence IN 47522-

Landholding Agency: Navy

Property Number: 77200010063

Status: Unutilized

Reasons: Within 2000 ft. of flammable or explosive material. Secured Area

5 Bldgs.

Naval Surface Warfare

2174, 2175, 2176, 2193, 2784

Crane Co: Lawrence IN 47522-

Landholding Agency: Navy

Property Number: 77200010064

Status: Unutilized

Reasons: Within 2000 ft. of flammable or explosive material. Secured Area

Bldgs. 2500, 2501

Naval Surface Warfare

Crane Co: Lawrence IN 47522-

Landholding Agency: Navy

Property Number: 77200010065

Status: Unutilized

Reasons: Within 2000 ft. of flammable or explosive material. Secured Area

3 Bldgs.

Naval Surface Warfare

#2502, 2503, 2715

Crane Co: Lawrence IN 47522-

Landholding Agency: Navy

Property Number: 77200010066

Status: Unutilized

Reasons: Within 2000 ft. of flammable or explosive material. Secured Area

10 Bldgs.

Naval Surface Warfare

#2803, 2855-2863

Crane Co: Lawrence IN 47522-

Landholding Agency: Navy

Property Number: 77200010067

Status: Unutilized

Reasons: Within 2000 ft. of flammable or explosive material. Secured Area.

Bldgs. 29095, 3074

Naval Surface Warfare

Crane Co: Lawrence IN 47522-

Landholding Agency: Navy

Property Number: 77200010068

Status: Unutilized

Reasons: Within 2000 ft. of flammable or explosive material. Secured Area.

New Mexico

Bldg. 149, TA-21

Los Alamos National Lab

Los Alamos Co: NM 87545-

Landholding Agency: Energy

Property Number: 41200010024

Status: Unutilized

Reason: Secured Area.

Bldg. 312, TA-21

Los Alamos National Lab

Los Alamos Co: NM 87545-

Landholding Agency: Energy

Property Number: 41200010025

Status: Unutilized

Reason: Secured Area.

Bldg. 313, TA-21

Los Alamos National Lab

Los Alamos Co: NM 87545-

Landholding Agency: Energy

Property Number: 41200010026

Status: Unutilized

Reason: Secured Area.

Bldg. 314, TA-21

Los Alamos National Lab

Los Alamos Co: NM 87545-

Landholding Agency: Energy

Property Number: 41200010027

Status: Unutilized

Reason: Secured Area.

Bldg. 315, TA-21

Los Alamos National Lab

Los Alamos Co: NM 8754-

Landholding Agency: Navy

Property Number: 41200010028

Status: Unutilized

Reason: Secured Area

Virginia

Facility P-77

Norfolk Naval Base

Norfolk Co: VA 23511-

Landholding Agency: Navy

Property Number: 77200010071

Status: Unutilized

Reason: Extensive deterioration

Bldgs. A13, A13A

Norfolk Naval Base

Norfolk Co: VA 23511-

Landholding Agency: Navy

Property Number: 77200010072

Status: Unutilized

Reason: Extensive deterioration

Washington

Bldg. 17

Naval Radio Station

Jim Creek

Arlington Co: WA 98223-8599

Landholding Agency: Navy

Property Number: 77200010073

Status: Excess

Reason: Secured Area Extensive deterioration

Bldg. 47

Naval Undersea Warfare

Keyport Co: Kitsap WA 98345-7610

Landholding Agency: Navy

Property Number: 77200010074

Status: Unutilized

Reason: Within 2000 ft. of flammable or explosive material. Secured Area

LAND (by State)

North Carolina

0.1291 acres

Camp Lejeune

off Dogwood

Camp Lejeune Co: Onslow NC 28542-

Landholding Agency: Navy

Property Number: 77200010069

Status: Unutilized

Reason: Secured Area

0.1291 acres

Camp Lejeune

off Brewster Rd.

Camp Lejeune Co: Onslow NC 28542-

Landholding Agency: Navy

Property Number: 77200010070

Status: Unutilized

Reason: Secured Area

Pennsylvania

Novak Estate Land

off the Parkway West

Moon Township Co: Allegheny PA 15222-

Landholding Agency: GSA

Property Number: 54200010006

Status: Excess

Reason: inaccessible

GSA Number: 4-G-PA-7887

[FR Doc. 00-6281 Filed 3-16-00; 8:45 am]

BILLING CODE 4210-29-M